DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. The Bureau of Labor Statistics (BLS) is soliciting comments concerning the proposed revision of the “Report on Employment, Payroll, and Hours (BLS-790).” A copy of the proposed information collection request (ICR) can be obtained by contacting the individual listed below in the Addresses section of this notice.

DATES: Written comments must be submitted to the office listed in the Addresses section of this notice on or before February 22, 2005.

ADDRESSES: Send comments to Amy A. Hobby, BLS Clearance Officer, Division of Management Systems, Bureau of Labor Statistics, Room 4080, 2 Massachusetts Avenue NE., Washington, DC 20212, telephone number 202-691-7628. (This is not a toll free number.)

FOR FURTHER INFORMATION CONTACT: Amy A. Hobby, BLS Clearance Officer, telephone number 202-691-7628. (See Addresses section.)

SUPPLEMENTARY INFORMATION:

I. Background

The Current Employment Statistics (CES) Survey is a Federal/State program of the BLS. It produces monthly estimates of total employment, woman worker employment, production or nonsupervisory worker employment, and hours, and earnings for production or nonsupervisory workers based on a sample of U.S. nonagricultural establishments. Information for these estimates is derived from a sample of approximately 283,000 reports, as of September 2004. Each month, these firms report their employment, payroll, and hours on forms identified as the BLS-790. All of these reports are collected under a probability based sample design.

A list of all form types currently used is included below in the Current Action section of this notice. Respondents receive variations of the basic collection forms, depending on their industry. The BLS is requesting approval through February 29, 2008.

The CES program is a voluntary program under Federal statute. Reporting to the State agencies is voluntary in all but five States (California, Oregon, Washington, North Carolina, South Carolina) and Puerto Rico, and, to our knowledge, the States that do have mandatory reporting rarely exercise their authority. The collection form's confidentiality statement cites the Confidential Information Protection and Statistical Efficiency Act of 2002 and mentions the State mandatory reporting authority.

Automated data collection methods are now used for most of the CES sample. Approximately 86,000 reports are received through Electronic Data Interchange and 76,000 reports are collected using Touchtone Data Entry, as of September 2004. Computer Assisted Telephone Interviewing is the third largest mode, accounting for 54,000 reports. In comparison, only 8,400 reports are collected by mail. Fax also is a significant collection mode, as 36,000 reports are collected via this method. The balance of the sample is collected through other automated methods including web and submission of tapes and diskettes.

Research on use of the World Wide Web for data collection is continuing. The BLS is continuing to evaluate Web based data collection and investigating approaches for optimizing response rates. The BLS also is testing the feasibility of fax with optical character recognition (OCR) collection for the CES. OCR technology has improved to the point where respondents can fax their data to the BLS and the incoming fax can be automatically processed into a data set.

II. Desired Focus of Comments

The BLS is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Topic for Special Consideration

The BLS is introducing the collection of several new data items and eliminating one item. The new items are All Employee Payroll, All Employee Commissions, All Employee Hours, and Gross Monthly Earnings. The BLS is eliminating collection of the Women Worker data element as a separate date item. Gender specific data will no longer be available from the Current Employment Statistics program. However, data on the total number of employees will continue to be collected.

The present CES hours and earnings series, which apply only to production and non-supervisory workers, are seriously limited in scope. This limits their value as overall economic indicators. Expanding the concept of hours and earnings to cover all employees, and adding a series on gross monthly earnings will be especially beneficial to the Bureau of Economic Analysis for derivation of personal income estimates, and also for the BLS productivity estimates. Both personal income and productivity estimates use the current production/non-supervisory worker-based CES series as a proxy for all employee hours and earnings data. The production worker series will be dropped only after the new series are well established and acceptable to BLS and its users, including having sufficient data observations to allow for seasonal adjustment.

An additional motivation for change is the difficulty of collecting hours and earnings information from respondents using the current CES production/non-supervisory worker definitions. Many respondents' payroll records do not allow them to readily identify workers according to CES definitions. Interviews with respondents and large payroll processing firms indicate that all employee payroll would be more reportable.

The decision to eliminate collection of a separate women workers data item is based on several factors: (1) Respondent burden; (2) an assessment of the relative number of users of this series; and (3) the availability of these data from other sources such as the Current Population Survey (which provides a large body of other related demographic information). Because this data series does not have a large number of users and there is an alternative source for these data, the BLS believes that the respondent burden to continue collection of these data is not justified, especially considering the increase in burden associated with collecting the new data elements which have more wide-ranging uses.

IV. Current Action

Office of Management and Budget Clearance is being sought for the Report on Employment, Payroll, and Hours (BLS-790).

Type of Review: Revision of a currently approved collection.

Agency: Bureau of Labor Statistics.

Title: Report on Employment, Payroll, and Hours (BLS-790).

OMB Number: 1220-0011.

Affected Public: State or local governments; Businesses or other for-profit; Non-profit institutions; Small businesses or organizations.

Form | Number of respondents | Minutes per report | Frequency of response | Annual responses | Annual burden hours
A—Natural Resources and Mining | 1,400 | 10 | 12 | 16,800 | 2,800
B—Construction | 12,800 | 10 | 12 | 153,600 | 25,600
C—Manufacturing | 18,000 | 10 | 12 | 216,000 | 36,000
E—Service Providing Industries | 153,300 | 10 | 12 | 1,839,600 | 306,600
G—Public Administration | 56,700 | 5 | 12 | 680,400 | 56,700
S—Education | 4,000 | 5 | 12 | 48,000 | 4,000
F1, F2, F3 Fax Forms | 36,400 | 10 | 12 | 436,800 | 72,800
Total | 282,600 |  |  | 3,391,200 | 504,500

Total Burden Cost (capital/startup): $0.

Total Burden Cost (operating/maintenance): $0.

Comments submitted in response to this notice will be summarized and/or included in the request for Office of Management and Budget approval of the information collection request; they also will become a matter of public record.

Signed at Washington, DC, this 13th day of December 2004.
Cathy Kazanowski,
Chief, Division of Management Systems, Bureau of Labor Statistics.

[FR Doc. E4-3731 Filed 12-21-04; 8:45 am]

BILLING CODE 4510-24-P